DEPARTMENT OF DEFENSE

Department of the Army; Corps of Engineers

Intent To Prepare a Draft Programmatic Environmental Impact Statement for the Puget Sound Nearshore Marine Habitat Restoration Project, WA

AGENCY: Department of the Army, U.S. Army Corps of Engineers, DoD.

ACTION: Notice of intent.

SUMMARY: Pursuant to Section 102(2)(c) of the National Environmental Policy Act (NEPA) of 1969, as amended, the U.S. Army Corps of Engineers (Corps), Seattle District, as lead Federal agency, will prepare a draft Programmatic Environmental Impact Statement (PEIS) evaluating a process based restoration project in the marine nearshore zone of Puget Sound, Washington to address the interruption and degradation of nearshore habitat resulting from the disturbance of habitat forming processes caused by various human influences. This environmental impact statement will be a combined Federal NEPA and Washington State Environmental Policy Act (SEPA) document. The lead agency for SEPA will be the Washington Department of Fish and Wildlife. This is an opportunity for public comment; there will not be a separate SEPA process.

DATES: See SUPPLEMENTARY INFORMATION section for meeting dates.

ADDRESSES: Mrs. Chemine Jackels, Environmental Resources Section, U.S. Army Corps of Engineers, P.O. Box 3755, Seattle, WA 98124-3755.

FOR FURTHER INFORMATION CONTACT: Questions regarding the scoping process or preparation of the draft PEIS may be directed to: Chemine Jackels (206) 764-3646.

SUPPLEMENTARY INFORMATION: 1. Proposed Action: The Corps of Engineers and the Washington Department of Fish and Wildlife propose to evaluate alternative process based habitat restoration actions in the nearshore zone of Puget Sound (defined as that portion of Puget Sound that extends waterward from the upland and backshore areas that directly influence conditions along the marine shoreline to the depth offshore where light penetration falls below a level that supports plant growth and in river deltas to the head of tide) which encompasses Whatcom, Skagit, Island, San Juan, Snohomish, King, Pierce, Thurston, Mason, Kitsap, Jefferson, and Clallam counties, Washington. For preparation of this draft PEIS, the Corps, Seattle District is the lead Federal agency under NEPA (42 U.S.C. 4321 et seq.) and the Council on Environmental Quality's implementing guidelines (40 CFR 1500-1508). The Washington Department of Fish and Wildlife is the lead State agency under the Washington SEPA (Chapter 43.21C RCW) and the SEPA guidelines (Chapter 197-11 WAC).

The Corps is authorized to study Puget Sound water uses under Section 209 of the River and Harbor Act of 1962 (Pub. L. 87-874). Corps of Engineers activities in ecosystem restoration will concentrate on restoring and performing scientific analysis of habitat forming processes (i.e., hydrology, sediment transport, nutrient delivery) in the marine nearshore zone of Puget Sound.

The proposed action could potentially restore nearshore ecosystem habitat and processes by reconnecting isolated habitat elements, increasing shoreform diversity, establishing areas of estuarine habitat, increasing floodplain habitat and connectivity, restoring small lagoons and estuaries, increasing the amount of submerged, emergent, and riparian vegetation, replenishing and protecting beach sediments, and improving tidal exchange. If the proposed action were approved, initial construction could begin in 2014.

2. Restoration Alternatives: Three programmatic restoration alternatives are currently being considered and evaluated in the environmental impact statement. The No Action alternative, as required by NEPA and SEPA, would include various agencies and groups continuing to implement small-scale restoration projects within existing frameworks without the implementation of this Corps of Engineers and Washington Department of Fish and Wildlife project. Continued implementation of restoration projects would focus on reconnecting isolated habitat elements, localized shoreline revegetation, restoration of estuary features and other discrete projects as real estate and funding allows. The second alternative is to pursue restoration of Puget Sound nearshore ecosystem processes using physical actions to remove or mitigate barriers to habitat forming processes and/or create habitats that have been lost as a result of those barriers. Under this alternative, plans may be formulated, including strategic restoration, which uses change analysis data comparing current and historic conditions as a means to identify candidate restoration sites based on criteria established by an interdisciplinary team, as well as stakeholders. The third alternative focuses on non-structural means to restore nearshore processes in Puget Sound. This non-structural alternative would include actions such as education, regulation, and changes in land-use policy. These three alternatives are not final and may not be analyzed in the final EIS, as they may change and/or new alternatives may develop during the scoping and NEPA process.

3. Scoping and Public Involvement: Public involvement will be sought during the study in accordance with NEPA and SEPA procedures. Public meetings will be held at the beginning of the NEPA process to scope the efforts that will be undertaken to prepare the draft PEIS. The objectives of the public meetings will be to clarify issues of major concern, identify information that might be needed to analyze and evaluate impacts, obtain public input on the range and acceptability of approaches and provide further definition of alternatives. This notice of intent formally commences the joint scoping process under NEPA and SEPA. As part of the scoping process, all affected Federal, state, and local agencies, Native American tribes, and interested private organizations, including environmental interest groups, are invited to comment on the scope of the draft PEIS. Comments are requested concerning project alternatives, mitigation measures, probable significant environmental impacts, and permits or other approvals that may be required. To date, the following impact areas have been identified and will be analyzed in depth in the draft PEIS: (1) Marine mammals, fish, and invertebrates and their habitat, (2) sediment supply, (3) wetlands and estuaries, (4) submerged, emergent, and riparian vegetation, (5) wildlife, (6) land use, (7) public safety, and (8) hydrologic connectivity. The environmental review process will be comprehensive and will integrate and satisfy the requirements of NEPA (Federal), SEPA (Washington State), and other relevant Federal, state, and local environmental laws. The public scoping period will commence on October 26, 2009 in conjunction with the first scoping meeting and will extend throughout the development of the joint NEPA/SEPA PEIS. Four scoping meetings will be held throughout the Puget Sound region from 4 p.m. to 7 p.m. The meeting dates and locations are as follows:

October 26: Highline Community College, 2400 S. 240th St., Des Moines, WA 98198.

October 28: The chapel at Fort Worden State Park, 200 Battery Way, Port Townsend, WA 98368.

November 3: Lacey Community Center, 6729 Pacific Avenue SE., in the Woodland Creek Community Park, Lacey, WA 98503.

November 10: Skagit Station, 105 E. Kincaid, Mount Vernon, WA 98273.

All Federal, State, and local agencies, Native American Tribes, other interested private organizations, and the general public are invited to participate. Public comments will be considered in development of the draft PEIS. The formal public comment period will extend until December 10, 2009.

4. Other Environmental Review, Coordination, and Permit Requirements: Other environmental review, coordination, and permit requirements include preparation of a Clean Water Act, Section 404(b)(1) evaluation by the Corps, and consultation among the Corps, State of Washington, U.S. Fish and Wildlife Service, and National Oceanic and Atmospheric Administration per Section 7 of the Endangered Species Act. Coordination will be continued with the U.S. Fish and Wildlife Service to meet the requirements of the Fish and Wildlife Coordination Act and initiated with Washington Department of Ecology for Clean Water Act compliance, and with the Washington Department of Archaeology & Historic Preservation for compliance with Section 106 of the National Historic Preservation Act.

5. Availability of the Draft PEIS: The draft PEIS is scheduled for release during the summer of 2012 and the final PEIS is scheduled for release during the winter of 2012.

Anthony O. Wright,
Colonel, Corps of Engineers, District Engineer.

[FR Doc. E9-23765 Filed 10-1-09; 8:45 am]

BILLING CODE 3720-58-P